DEPARTMENT OF DEFENSE

Department of the Army

[USA-2007-0027]

Privacy Act of 1974; System of Records

AGENCY: Department of the Army, DoD.

ACTION: Notice to Alter a System of Records.

SUMMARY: The Department of the Army is proposing to alter a system of records in its existing inventory of records systems subject to the Privacy Act of 1974, (5 U.S.C. 552a), as amended.

DATES: The proposed action will be effective on October 9, 2007 unless comments are received that would result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Mr. Robert Dickerson at (703) 428-6513.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on August 29, 2007, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: August 30, 2007.
L.M. Bynum,
Alternate OSD Federal Register Liaison Officer, Department of Defense.

A0385-10/40 ASO

System Name:

Army Safety Management Information System (ASMIS) (December 28, 2004, 69 FR 77742).

Changes:

Categories of Individuals covered by the System:

Delete entry and replace with “individuals (includes contractors, volunteer personnel, members of the public) involved in accidents incident to Army and USACE operations and recreational facilities, and DoD personnel who perform a travel risk assessments for leave, pass, or other purpose (may include civilian and military personnel from the Army, Air Force, Navy, Marine Corps and Coast Guard).”

Categories of Records in the System:

Delete entry and replace with “Records related to Army accidents and risk assessments include name of injured individual, name of individual performing risk assessment, Social Security Number (SSN), age, gender, pay grade, job title, start point and destination of travel, travel dates, personal protective equipment usage, alcohol and medication usage, sleep and rest plans, leave or pass address and phone number date of injury, location of accident, activity at time of injury, type of injury, board findings, recommendations, witness statements, wreckage distribution diagrams, maintenance and material data, and other personal and accident related and environmental information.”

* * * * *

Purpose(s):

Delete entry and replace with “Information will be used to monitor and facilitate the U.S. Army's and the USACE Safety and Occupational Health Offices' safety programs; to analyze accident experience and exposure information; to analyze and correlate relationships between planned actions and resultant accidents; and to support the Army's accident prevention efforts. Information will also be used to support DOD accident prevention efforts through risk assessments conducted by DOD personnel prior to travel for leave, pass or other purpose (may include civilian and military personnel from the Army, Air Force, Navy, Marine Corps and Coast Guard).”

Storage:

Delete entry and replace with “Paper records in file folder and electronic storage media.”

* * * * *

A0385-10/40 ASO

System Name:

Army Safety Management Information System (ASMIS).

System Location:

U.S. Army Combat Readiness Center (USACRC), 4905 5th Avenue, Fort Rucker, AL 36362-5363, and the U.S. Army Center for Health Promotion and Preventive Medicine (USACHPPM), 5158 Blackhaw Road, Aberdeen Proving Ground, MD 21010-5403.

U.S. Army Corps of Engineers (USACE): Chief, Safety and Occupational Health Office, Headquarters, U.S. Army Corps of Engineers, 441 G Street NW., Washington, DC 20314-1000, and all U.S. Army Corps of Engineers Safety and Occupational Health Offices. Official mailing addresses are published as an Appendix to the Army's compilation of systems of records notices.

Categories of Individuals Covered by the System:

Individuals (includes contractors, volunteer personnel, and members of the public) involved in accidents incident to Army and USACE operations and recreational facilities and DoD personnel who perform risk assessments prior to travel for leave, pass or other purpose (may include civilian and military personnel from the Army, Air Force, Navy, Marine Corps and Coast Guard).

Categories of Records in the System:

Records related to Army accidents and risk assessments include name of injured individual, name of individual performing risk assessment, Social Security Number, age, gender, pay grade, job title, start point and destination of travel, travel dates, personal protective equipment usage, alcohol and medication usage, sleep and rest plans, leave or pass address and phone number date of injury, location of accident, activity at time of injury, type of injury, board findings, recommendations, witness statements, wreckage distribution diagrams, maintenance and material data, and other personal and accident related and environmental information.

Authority for Maintenance of the System:

10 U.S.C. 3013, Secretary of the Army; 5 U.S.C. 7902, Safety Programs; Public Law 91-596, Occupational Safety and Health Act of 1970; DoD Instruction 6055.1, DoD Safety and Occupational Health Programs; Army Regulations 385-10, Army Safety Program; Army Regulation 385-40, Accident Reporting and Records; and E.O. 9397 (SSN).

Purpose(s):

Information will be used to monitor and facilitate the U.S. Army's and the USACE Safety and Occupational Health Offices' Safety programs; to analyze accident experience and exposure information; to analyze and correlate relationships between planned actions and resultant accidents; and to support the Army's accident prevention efforts. Information will also be used to support DoD accident prevention efforts through risk assessments conducted by DoD personnel prior to travel for leave, pass or other purpose (may include civilian and military personnel from the Army, Air Force, Navy, Marine Corps and Coast Guard).

Routine Uses of Records Maintained in the System, Including Categories of Users and the Purposes of Such Uses:

In addition to those disclosures generally permitted under 5 U.S.C. 552(b) of the Privacy Act, these records or information contained therein may specifically be disclosed outside the DoD as a routine use pursuant to 5 U.S.C. 552a(b)(3) as follows:

To the Department of Labor, the Federal Aviation Agency, the National Transportation Safety Board, and to Federal, State, and local agencies, and applicable civilian organizations, such as the National Safety Council, for use in a combined effort of accident prevention.

In some cases, data must also be disclosed to an employee's representative under the provisions of 29 CFR 1960.29.

The DoD “Blanket Routine Uses” set forth at the beginning of the Army's compilation of systems of records notices also apply to this system.

Policies and Practices for Storing, Retrieving, Accessing, Retaining, and Disposing of Records in the System:

Storage:

Paper records in file folders and electronic storage media.

Retrievability:

Individual's name and Social Security Number (SSN).

Safeguards:

Paper records and computer stored records are maintained in locked file cabinets behind security doors. Information is accessible only by authorized personnel with appropriate clearance/access in the performance of their duties. Remote terminal accessible only by authorized personnel.

At United States Army Corps of Engineers and United States Army Center for Health Promotion and Preventive Medicine the computer stored records are secured behind security doors, accessible only by authorized personnel provided password access.

Retention and Disposal:

Accident and incident case records and aviation accident and incident case records are maintained for 5 years then destroy, except for: USACRC and USACE maintain for 30 years in current file area then destroy; Office of Corps of Engineers records created prior to 1 January 1982 maintain for 30 years then destroy. Environmental restoration reports are maintained for 50 years then destroyed (5 years in current file area then transferred to records holding area). Reports of artillery mis-firings or accidents and harmful chemical, biological and radiological exposures accumulated in combat or combat support elements are permanent.

System Manager(s) and Address:

Commander, U.S. Army Combat Readiness Center, 4905 5th Avenue, Fort Rucker, AL 36362-5363.

Commander, U.S. Army Center for Health Promotion and Preventive Medicine, 5158 Blackhawk Road, Aberdeen Proving Ground, MD 21010-5403.

Chief, Safety and Occupational Health Office, Headquarters, U.S. Army Corps of Engineers, 441 G Street, NW., Washington, DC 20314-1000.

Notification Procedure:

Individuals seeking to determine whether information about them is contained in this system should address written inquiries to the appropriate system manager.

Request should contain individual's full name, Social Security Number (SSN), current address, telephone number, when and where the accident occurred, type of equipment involved in the accident, and signature.

Record Access Procedures:

Individuals seeking access to information about them contained in this system should address written inquiries to the appropriate system manager.

Request should contain individual's full name, Social Security Number (SSN), current address, telephone number, when and where the accident occurred, type of equipment involved in the accident, and signature.

Contesting Record Procedures:

The Army's rules for accessing records, and for contesting contents and appealing initial agency determinations are contained in Army Regulation 340-21; 32 CFR part 505; or may be obtained from the system manager.

Record source categories:

Records and reports of accident, injury, fire, morbidity, law enforcement, traffic accident investigations, vehicle accident reports, and marine accident/casualty reports, individual sick clips, and military aviation records/reports.

Exemptions claimed for the System:

None.

[FR Doc. 07-4343 Filed 9-05-07; 8:45 am]

BILLING CODE 5001-06-M